DEPARTMENT OF DEFENSE

Department of the Navy

[Docket ID: USN-2023-HQ-0011]

Proposed Collection; Comment Request

AGENCY: Department of the Navy, Department of Defense (DoD).

ACTION: 60-Day information collection notice.

SUMMARY: In compliance with the Paperwork Reduction Act of 1995, the Navy Fleet Readiness Center Southeast announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by June 12, 2023.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Fleet Readiness Center, NAS Jacksonville, 101 Wasp St., Jacksonville, FL 32212; ATTN: Mr. Jason Raymond, or call 904-790-6251.

SUPPLEMENTARY INFORMATION:

Title; Associated Form; and OMB Number: Fleet Readiness Center Southeast Access Badge Application; OMB Control Number 0703-CURE.

Needs and Uses: The Sensormatic Electronic (SE) Computer Coordinated Universal Retrieval Entry (CCURE) 9000 application is used as part of the process for issuing access badges to Fleet Readiness Center Southeast (FRCSE) command facilities. The information collected from command employees for this application is per the prescribing policy regulations in OPNAVINST 5530.14E, “Navy Physical Security and Law Enforcement Program,” which provides guidance for the protection of people and assets throughout the Navy. FRCSE Security collects information from contractor personnel verbally and in-person to obtain the necessary information required to in the CCURE application for command badge issuance. Once FRCSE security personnel enters all necessary information into the SE CCURE 9000 application, a command badge is issued, allowing the contractor employee access to command facilities. In addition to using information to process personnel access to controlled areas, information may be used for investigative purposes and communications in the event of an emergency or security event.

Affected Public: Individuals or households.

Annual Burden Hours: 186.67.

Number of Respondents: 1,600.

Responses per Respondent: 1.

Annual Responses: 1,600.

Average Burden per Response: 7 minutes.

Frequency: On occasion.

Dated: April 5, 2023.
Aaron T. Siegel,
Alternate OSD Federal Register Liaison Officer, Department of Defense.

[FR Doc. 2023-07490 Filed 4-10-23; 8:45 am]

BILLING CODE 5001-06-P